DEPARTMENT OF TRANSPORTATION

Federal Aviation Administration

14 CFR Part 39

[Docket No. FAA-2005-22626; Directorate Identifier 2002-NM-295-AD; Amendment 39-14332; AD 2005-20-35]

RIN 2120-AA64

Airworthiness Directives; Airbus Model A320-111 Airplanes

AGENCY: Federal Aviation Administration (FAA), Department of Transportation (DOT).

ACTION: Final rule; request for comments.

SUMMARY: The FAA is superseding an existing airworthiness directive (AD), which applies to certain Airbus Model A320-111 airplanes. The existing AD currently requires repetitive inspections for cracking in the front and rear faces and at the crown fittings of the upper stringers of the center wing box and applicable repairs. This new AD requires continuing the repetitive inspections at revised thresholds and intervals, and applicable repairs. This AD results from a manufacturer survey of airplanes affected by the existing inspection program that led to the consequent revision of the thresholds and intervals of the repetitive inspections. We are issuing this AD to detect and correct fatigue cracking of the upper stringers of the center wing box, which could lead to loss of structural integrity of the wing.

DATES: Effective October 27, 2005.

The Director of the Federal Register approved the incorporation by reference of a certain publication listed in the AD as of October 27, 2005.

We must receive comments on this AD by December 12, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Discussion

On October 13, 1993, the FAA issued AD 93-16-10, amendment 39-8667 (58 FR 47825, September 13, 1993). That AD applies to certain Airbus Model A320 airplanes. That AD requires repetitive inspections for cracking in the front and rear faces and at the crown fittings of the upper stringers of the center wing box and applicable repairs, if necessary. We issued that AD to detect fatigue cracking in the upper stringer, which could lead to loss of structural integrity.

Actions Since Existing AD Was Issued

Since we issued AD 93-16-10, Airbus conducted a survey of the upper stringers of the center wing boxes of airplanes affected by the existing inspection program. The results of the survey demonstrated that it was necessary to decrease the thresholds and intervals of the repetitive inspections, due to an adjustment of the A320 family reference fatigue mission.

Relevant Service Information

Airbus has issued Service Bulletin A320-57-1030, Revision 03, dated August 28, 2002. The service bulletin describes procedures for performing repetitive inspections—at thresholds and intervals which have been revised from those specified in Service Bulletin A320-57-1030, dated August 12, 1991, which is the service information referenced in AD 93-16-10—for cracking in the front and rear faces and at the crown fittings of the upper stringers of the center wing box between frame (FR) 36 and FR42. The Direction Générale de l'Aviation Civile (DGAC), which is the airworthiness authority for France, mandated the service information and issued French airworthiness directive 2002-341(B), dated June 26, 2002, to ensure the continued airworthiness of these airplanes in France.

FAA's Determination and Requirements of This AD

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to supersede AD 93-16-10. This new AD continues to require repetitive inspections with revised inspection thresholds and intervals, applicable repairs; as specified in the service information described previously, except as discussed under “Differences Between the AD and Service Information.”

Differences Between the AD and Service Information

Where the service bulletin describes procedures to contact the manufacturer for repair methods, this AD requires operators to use a repair method that we or the DGAC (or its delegated agent) approve.

Clarification of Inspection Terminology

In this AD, the “detailed visual inspection” specified in the service bulletin is referred to as a “detailed inspection.” We have included the definition for a detailed inspection in Note 1 of this AD.

Explanation of Change to Applicability

We have revised the applicability of the existing AD to identify model designations as published in the most recent type certificate data sheet for the affected models.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required inspection would take about 2 work hours per airplane, at an average labor rate of $65 per work hour. Based on these figures, the estimated cost of the AD would be $130 per airplane, per inspection cycle.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to the address listed under the ADDRESSES section. Include “Docket No. FAA-2005-22626; Directorate Identifier 2002-NM-295-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-8667 (58 FR 47825, September 13, 1993) and by adding the following new airworthiness directive (AD):

2005-20-35 Airbus: Amendment 39-14332. Docket No. FAA-2005-22626; Directorate Identifier 2002-NM-295-AD.

Effective Date

(a) This AD becomes effective October 27, 2005.

Affected ADs

(b) This AD supersedes AD 93-16-10.

Applicability

(c) This AD applies to Airbus Model A320-111 airplanes, certificated in any category, having manufacturer serial number 002 through 021 inclusive.

Unsafe Condition

(d) This AD results from a manufacturer survey of airplanes affected by the inspection program required by AD 93-16-10 and the consequent revision of the thresholds and intervals of the repetitive inspections. We are issuing this AD to detect and correct fatigue cracking of the upper stringers of the center wing box, which could lead to loss of structural integrity of the wing.

Compliance

(e) You are responsible for having the actions required by this AD performed within the compliance times specified, unless the actions have already been done.

Initial Inspection

(f) Prior to the accumulation of 6,500 total flight cycles or within 50 flight cycles after the effective date of this AD, whichever occurs later, except as provided by paragraph (g) of this AD, perform a detailed inspection for cracking in the front and rear faces and at the crown fittings of the upper stringers of the center wing box between frame (FR) 36 and FR42, in accordance with the Accomplishment Instructions of Airbus Service Bulletin A320-57-1030, Revision 03, dated August 28, 2002.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) If no crack is found, repeat the inspection thereafter at intervals not to exceed 5,500 flight cycles, in accordance with the service bulletin.

(2) If any crack is found, prior to further flight, repair in accordance with a method approved by the Manager, International Branch, ANM-116, Transport Airplane Directorate, FAA; or the Direction Générale de l'Aviation Civile (DGAC) or its delegated agent.

Previous Initial Inspection

(g) Airplanes that received an initial inspection prior to the effective date of this AD using any service information specified in paragraph (h) of this AD must receive the next inspection within 2,000 flight cycles after the effective date of this AD or 7,500 flight cycles since the last inspection, whichever occurs first; in accordance with paragraph (f) of this AD.

Previous Revisions of Service Bulletins

(h) Actions accomplished before the effective date of this AD in accordance with Airbus Service Bulletin A320-57-1030, dated August 12, 1991; Revision 1, dated September 16, 1996; or Revision 02, dated February 20, 1998; are considered acceptable for compliance with the corresponding actions specified in paragraph (f) of this AD, except as provided by paragraph (g) of this AD.

No Reporting Requirement

(i) Although Airbus Service Bulletin A320-57-1030, Revision 03, dated August 28, 2002, describes procedures for reporting inspection findings to Airbus, this AD does not require such a report.

Alternative Methods of Compliance (AMOCs)

(j)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

(3) AMOCs approved previously according to AD 93-16-10 are not approved as AMOCs for this AD.

Related Information

(k) French airworthiness directive 2002-341(B), dated June 26, 2002, also addresses the subject of this AD.

Material Incorporated by Reference

(l) You must use Airbus Service Bulletin A320-57-1030, Revision 03, dated August 28, 2002, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 28, 2005.
Ali Bahrami,
Manager, Transport Airplane Directorate, Aircraft Certification Service.

[FR Doc. 05-20069 Filed 10-11-05; 8:45 am]

BILLING CODE 4910-13-P